DEPARTMENT OF COMMERCE

National Oceanic and Atmospheric Administration

[RTID 0648-XC504]

North Pacific Fishery Management Council; Public Meeting

AGENCY: National Marine Fisheries Service (NMFS), National Oceanic and Atmospheric Administration (NOAA), Commerce.

ACTION: Notice of virtual meeting.

SUMMARY: The North Pacific Fishery Management Council (Council) Bering Sea and Aleutian Islands (BSAI) Crab Plan Team (CPT) will meet virtually on November 29, 2022.

DATES: The meeting will be held on Tuesday, November 29, 2022, from 9 a.m. to 12 p.m., Alaska Time.

ADDRESSES: The meeting will be a virtual meeting. Participants can join online through the link at: https://meetings.npfmc.org/Meeting/Details/2962.

Council address: North Pacific Fishery Management Council, 1007 W 3rd Ave. Anchorage, AK 99501-2252; telephone: (907) 271-2809. Instructions for attending the meeting via video conference are given under SUPPLEMENTARY INFORMATION below.

FOR FURTHER INFORMATION CONTACT: Sarah Rheinsmith, Council staff; phone: (907) 271-2809; email: sarah.rheinsmith@noaa.gov. For technical support, please contact our admin Council staff, email: npfmc.admin@noaa.gov.

SUPPLEMENTARY INFORMATION:

Agenda

Tuesday, November 29, 2022

The agenda will include a summary of the snow crab rebuilding plan initial review analysis, and Plan Team discussion. The agenda is subject to change, and the latest version will be posted at https://meetings.npfmc.org/Meeting/Details/2962 prior to the meeting, along with meeting materials.

Connection Information

You can attend the meeting online using a computer, tablet, or smart phone, or by phone only. Connection information will be posted online at: https://meetings.npfmc.org/Meeting/Details/2962.

Public Comment

Public comment letters will be accepted and should be submitted electronically to https://meetings.npfmc.org/Meeting/Details/2962.

Authority: 16 U.S.C. 1801 et seq.

Dated: November 4, 2022.
Rey Israel Marquez,
Acting Deputy Director, Office of Sustainable Fisheries, National Marine Fisheries Service.

[FR Doc. 2022-24458 Filed 11-8-22; 8:45 am]

BILLING CODE 3510-22-P